DEPARTMENT OF COMMERCE

International Trade Administration

[C-533-821; C-560-813; C-549-818]

Certain Hot-Rolled Carbon Steel Flat Products From India, Indonesia, and Thailand: Final Results of Expedited Sunset Reviews

AGENCY: Import Administration, International Trade Administration, Department of Commerce.

SUMMARY: On November 1, 2010, the Department of Commerce (“the Department”) initiated the second sunset reviews of the countervailing duty (“CVD”) orders on certain hot-rolled carbon steel flat products (“HR steel”) from India, Indonesia, and Thailand pursuant to section 751(c) of the Tariff Act of 1930, as amended (“the Act”). On the basis of notices of intent to participate and adequate substantive responses filed on behalf of the domestic interested parties and inadequate responses from respondent interested parties (in these cases, no responses), the Department conducted expedited sunset reviews of these CVD orders pursuant to section 751(c)(3)(B) of the Act and 19 CFR 351.218(e)(1)(ii)(B). As a result of these sunset reviews, the Department finds that revocation of the CVD orders would be likely to lead to continuation or recurrence of a countervailable subsidy at the level indicated in the “Final Results of Reviews” section of this notice.

DATES: Effective Date: March 14, 2013.

FOR FURTHER INFORMATION CONTACT: Eric Greynolds (India and Indonesia), Hilary Sadler or Dana Mermelstein (Thailand), AD/CVD Operations, Import Administration, International Trade Administration, U.S. Department of Commerce, 14th Street and Constitution Avenue NW., Washington, DC 20230; telephone: (202) 482-6071, (202) 482-4340 or 482-1391, respectively.

SUPPLEMENTARY INFORMATION:

Background

On November 5, 2012, the Department initiated sunset reviews of the CVD orders on HR steel from India, Indonesia, and Thailand, pursuant to section 751(c) of the Act.¹ The Department received a notice of intent to participate in each of these reviews from the following domestic interested parties: United States Steel Corporation (U.S. Steel); ArcelorMittal USA, LLC (ArcelorMittal); Nucor Corporation (Nucor); Gallatin Steel (Gallatin); Steel Dynamics Inc. (Steel Dynamics), and SSAB Americas (SSAB) (collectively, “domestic interested parties”) within the deadline specified in 19 CFR 351.218(d)(1)(i). The domestic interested parties claimed interested party status under section 771(9)(C) of the Act.

¹ See Initiation of Five-Year (“Sunset”) Reviews, 77 FR 66439 (November 5, 2012).

The Department received adequate substantive responses collectively from the domestic interested parties within the 30-day deadline specified in 19 CFR 351.218(d)(3)(i). The Department did not receive a substantive response from any government or respondent interested party to the Indian or Indonesian proceedings. The Department received a substantive response from the Royal Thai Government but received no responses from the respondent interested parties, i.e., the Thai exporters and producers of HR steel. The regulations provide, at 19 CFR 351.218 (e)(1)(ii)(A), that the Department will normally conclude that respondent interested parties have provided adequate response to a notice of initiation where it receives complete substantive responses from respondent interested parties accounting on average for more than 50 percent, on a volume basis (or a value basis, if appropriate), of the total exports of the subject merchandise to the United States over the five calendar years preceding the year of publication of the notice of initiation. Because the Department received no responses from the respondent interested parties, the Department conducted expedited reviews of these CVD orders, pursuant to section 751(c)(3)(B) of the Act and 19 CFR 351.218(e)(1)(ii)(C)(2).

Scope of the Orders

The merchandise subject to these orders is hot-rolled steel of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4 mm, not in coils and without patterns in relief) of a thickness not less than 4.0 mm is not included within the scope of these orders.

Specifically included within the scope of these orders are vacuum degassed, fully stabilized (commonly referred to as interstitial-free (“IF”)) steels, high strength low alloy (“HSLA”) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products included in the scope of the orders, regardless of definitions in the Harmonized Tariff Schedule of the United States (“HTSUS”), are products in which: (i) Iron predominates, by weight, over each of the other contained elements; (ii) the carbon content is 2 percent or less, by weight; and (iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical descriptions provided above are within the scope of the orders unless otherwise excluded. The following products, by way of example, are outside or specifically excluded from the scope of the orders:

—Alloy hot-rolled steel products in which at least one of the chemical elements exceeds those listed above (including, 3, American Society for Testing and Materials (“ASTM”) specifications A543, A387, A514, A517, A506).

—Society of Automotive Engineers (“SAE”)/American Iron & Steel Institute (“AISI”) grades of series 2300 and higher.

—Ball bearings steels, as defined in the HTSUS.

—Tool steels, as defined in the HTSUS.

—Silico-manganese (as defined in the HTSUS) or silicon electrical steel with a silicon level exceeding 2.25 percent.

—ASTM specifications A710 and A736.

—USS Abrasion-resistant steels (USS AR 400, USS AR 500).

—All products (proprietary or otherwise) based on an alloy ASTM specification (sample specifications: ASTM A506, A507).

—Non-rectangular shapes, not in coils, which are the result of having been processed by cutting or stamping and which have assumed the character of articles or products classified outside chapter 72 of the HTSUS.

The merchandise subject to the orders is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90.

Certain hot-rolled carbon steel flat products covered by the orders, including vacuum degassed fully stabilized, high strength low alloy, and the substrate for motor lamination steel, may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00.

Although the HTSUS numbers are provided for convenience and customs purposes, the written product description remains dispositive.

Analysis of Comments Received

All issues raised in these reviews are addressed in the Issues and Decision Memorandum for the Final Results of Expedited Second Sunset Reviews of the Countervailing Duty Orders on Certain Hot-Rolled Carbon Steel Flat Products from India and Indonesia (“Decision Memorandum”) and the Issues and Decision Memorandum for the Final Results of the Expedited Second Sunset Review of the Countervailing Duty Order on Certain Hot-Rolled Carbon Steel Flat Products from Thailand (“Thai Decision Memorandum”) both of which are from Christian Marsh, Deputy Assistant Secretary for Antidumping and Countervailing Duty Operations, to Paul Piquado, Assistant Secretary for Import Administration, are dated concurrently with this final notice, and are hereby adopted by this notice. Parties can find a complete discussion of all issues raised in these expedited sunset reviews and the corresponding recommendations in these public memoranda which are on file electronically via Import Administration's Antidumping and Countervailing Duty Centralized Electronic Service System (“IA ACCESS”). IA ACCESS is available to registered users at http://iaaccess.trade.gov and in the Central Records Unit, room 7046 of the main Department of Commerce building. In addition, a complete version of the Decision Memorandum can be accessed directly on the Internet at http://www.trade.gov/ia/. The signed Decision Memorandum and the electronic versions of the Decision Memorandum are identical in content.

Final Results of Reviews

The Department determines that revocation of the CVD orders would be likely to lead to continuation or recurrence of a countervailable subsidy at the rates listed below:

Producers/Exporters | Net countervailable subsidy (percent)
India
Essar Steel Limited | 539.89
Ispat Industries Limited | 563.50
Steel Authority of India (“SAIL”) | 549.88
Tata Iron and Steel Company Limited | 540.78
All other producers/manufacturers/exporters | 547.71
Indonesia
P.T. Krakatau Steel | 10.21
All Others | 10.21
Thailand
Sahaviriya Steel Industries Public Company Limited (“SSI”) | 2.38
All Others | 2.38

Notification Regarding Administrative Protective Order

This notice serves as the only reminder to parties subject to administrative protective order (“APO”) of their responsibility concerning the return or destruction of proprietary information disclosed under APO in accordance with 19 CFR 351.305. Timely notification of return/destruction of APO materials or conversion to judicial protective order is hereby requested. Failure to comply with the regulations and the terms of an APO is a sanctionable violation.

We are issuing and publishing the results and notice in accordance with sections 751(c), 752, and 777(i)(1) of the Act.

Dated: March 5, 2013.
Paul Piquado,
Assistant Secretary for Import Administration.

[FR Doc. 2013-05932 Filed 3-13-13; 8:45 am]

BILLING CODE 3510-DS-P